DEPARTMENT OF TRANSPORTATION

Federal Aviation Administration

14 CFR Part 71

[Docket No. FAA-2015-6001; Airspace Docket No. 15-ANM-10]

RIN 2120-AA66

Amendment of United States Area Navigation (RNAV) Route Q-35; Western United States

AGENCY: Federal Aviation Administration (FAA), DOT.

ACTION: Final rule; correction.

SUMMARY: This action corrects the FAA docket number of a final rule published in the Federal Register on January 14, 2016, amending the legal description of RNAV Route Q-35 in the Western United States. In that rule, the FAA docket number was incorrectly published as FAA-2013-6001, instead of FAA-2015-6001.

DATES: Effective date 0901 UTC, March 31, 2016. The Director of the Federal Register approves this incorporation by reference action under 1 CFR part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.9Z at NARA, call (202) 741-6030, or go to http://www.archives.gov/federal_register/code_of_federal-regulations/ibr_locations.html.

FOR FURTHER INFORMATION CONTACT: Jason Stahl, Airspace Policy Group, Office of Airspace Services, Federal Aviation Administration, 800 Independence Avenue SW., Washington, DC 20591; telephone: (202) 267-8783.

SUPPLEMENTARY INFORMATION:

Background

A final rule was published in the Federal Register on January 14, 2016 (81 FR 1877), FR Doc. 2015-33095, that reversed the order of points listed in the legal description of RNAV Route Q-35 as published in FAA Order 7400.9, Airspace Designations and Reporting Points. Subsequent to publication, the FAA found that the FAA docket number for this document was inadvertently mistyped. This action corrects the FAA docket number.

Correction to Final Rule

Accordingly, pursuant to the authority delegated to me, in the Federal Register of January 14, 2016 (81 FR 1877), the docket number, as published in the Federal Register on January 14, 2016 (81 FR 1877), FR Doc. 2015-33095, amending the legal description of RNAV Route Q-35, is corrected as follows:

§ 71.1 [Amended]

On page 1877, column 1, line 4, Remove “Docket No. FAA-2013-6001” and add in its place “Docket No. FAA-2015-6001.

Issued in Washington, DC, on February 25, 2016.
Kenneth Ready,
Acting Manager, Airspace Policy Group.

[FR Doc. 2016-04739 Filed 3-3-16; 8:45 am]

BILLING CODE 4910-13-P